DEPARTMENT OF THE INTERIOR

National Park Service

Notice of Intent To Prepare an Environmental Impact Statement for the General Management Plan for Chattahoochee River National Recreation Area, Georgia

SUMMARY: In accordance with the National Environmental Policy Act of 1969 (Public Law 91-190, as amended), the National Park Service (NPS) is preparing an Environmental Impact Statement to assess the impacts of alternative management concepts that would be implemented under a revised General Management Plan for the Chattahoochee River National Recreation Area. the purpose of the General Management Plan is to establish the basic management philosophy for the park and provide strategies for addressing issues and achieving identified management objectives. The General Management Plan/Environmental Impact Statement (GMP/EIS) will evaluate the environmental impacts of a range of alternatives to address distinct management issues such as resource protection and visitor use. As a conceptual framework for formulating these alternatives, the Chattahoochee River National Recreation Area's purpose, significant resources, and management goals will first be identified. The GMP/EIS will conform to Director's Order—2, the planning guidance for National Park Service units, effective May 27, 1998.

DATES: Public scoping meetings will be scheduled this fall, and additional public meetings will be scheduled upon release of the Draft GMP/EIS. Time and place of the public meetings will be publicized in area newspapers.

Persons who may be interested in or affected by the proposed GMP/EIS are invited to participate in the scoping process by responding to this notice with written comments. We will accept comments through December 15, 2000. A Draft GMP/EIS will be available for review in the fall of 2001.

SUPPLEMENTARY INFORMATION: Our practice is to make comments, including names and home addresses of respondents, available for public review during regular business hours. If you wish for us to withhold your name and/or address, you must state this prominently at the beginning of your comment. However, we will not consider anonymous comments. We will make all submissions from organizations or businesses, and from individuals identifying themselves as representatives or officials of organizations or businesses, available for public inspection in their entirety.

The Draft and Final GMP/EIS will be made available to known interested parties and appropriate agencies. Full public participation by Federal, State, and local agencies as well as other concerned organizations and private citizens is invited throughout the preparation process of this document.

ADDRESSES: Written comments concerning the GMP/EIS should be sent to Mr. Kevin Cheri, Superintendent, Chattahoochee River National Recreation Area, 1978 Island Ford Parkway, Atlanta, GA 30350-3400, telephone (770) 399-8070.

Dated: September 29, 2000.
Charlie Powell,
Acting Regional Director, Southeast Region.

[FR Doc. 00-25677 Filed 10-5-00; 8:45 am]

BILLING CODE 4310-70-M